DEPARTMENT OF HOMELAND SECURITY

Federal Emergency Management Agency

[Docket ID FEMA-2022-0025; OMB No. 1660-0140]

Agency Information Collection Activities: Submission for OMB Review; Comment Request; Integrated Public Alert and Warning Systems (IPAWS) Memorandum of Agreement Applications

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. This notice seeks comments concerning the Integrated Public Alert and Warning Systems (IPAWS) Memorandum of Agreement Applications.

DATES: Comments must be submitted on or before December 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Wade Witmer, Deputy for the Integrated Public Alert and Warning System (IPAWS) Program, FEMA, National Continuity Programs, (202) 646-2523, wade.witmer@fema.dhs.gov.

SUPPLEMENTARY INFORMATION: Public Law 114-143, the Integrated Public Alert and Warning System Modernization Act of 2015, and Presidential Executive Order 13407, Public Alert and Warning System, establishes the policy for an effective, reliable, integrated, flexible, and comprehensive system to alert and warn the American people in situations of war, terrorist attack, natural disaster, or other hazards to public safety and wellbeing. The Integrated Public Alert and Warning System (IPAWS) is the Department of Homeland Security's response to the Executive Order. The Stafford Act (42 U.S.C. 5121, et. seq., Public Law 93-288, as amended) requires that FEMA make IPAWS available to Federal, State, and local agencies for the purpose of providing warning to governmental authorities and the civilian population in areas endangered by disasters. The information collected is used by FEMA to create a Memorandum of Agreement that regulates the management, operations, and security of the information technology system connection between a Federal, State, Tribal, territorial, or local alerting authority and IPAWS-OPEN (Open Platform for Emergency Notifications).

The IPAWS Public Alerting Authorization application captures information detailing which types of events the local jurisdiction wants to be configured to use IPAWS for and which primary dissemination channels should be available. For example, if a community wants to send a Civil Emergency Message (CEM) to broadcast across radio, television, and cable, they will request “CEM” for “EAS”—the Emergency Alert System. These requested permissions are reviewed by either the State or by Tribal authorities for compliance with established overall alerting policies and plans. IPAWS uses the approved information to configure permissions in IPAWS-OPEN.

This proposed information collection previously published in the Federal Register on August 26, 2022, at 87 FR 52589 with a 60 day public comment period. No comments were received. The purpose of this notice is to notify the public that FEMA will submit the information collection abstracted below to the Office of Management and Budget for review and clearance.

Collection of Information

Title: Integrated Public Alert and Warning Systems (IPAWS) Memorandum of Agreement Applications.

Type of Information Collection: Extension, with change, of a currently approved information collection.

OMB Number: 1660-0140.

FEMA Forms: FEMA Form FF-302-FY-22-102 (formerly 007-0-25), IPAWS Memorandum of Agreement (MOA) Application; FEMA Form FF-302-FY-22-103 (formerly 007-0-26a/b), IPAWS Public Alerting Authority (PAA) Application.

Abstract: A Federal, State, Tribal, territorial, or local alerting authority that applies for authorization to use IPAWS is designated as a Collaborative Operating Group (COG) by the IPAWS Program Management Office (PMO). Access to IPAWS is free; however, to send a message using IPAWS, an organization must procure its own IPAWS compatible software. To become a COG, a Memorandum of Agreement governing system security must be executed between the sponsoring organization and FEMA.

Affected Public: State, Tribal, or local Government.

Estimated Number of Respondents: 841.

Estimated Number of Responses: 841.

Estimated Total Annual Burden Hours: 526.

Estimated Total Annual Respondent Cost: $30,487.

Estimated Respondents' Operation and Maintenance Costs: $0.

Estimated Respondents' Capital and Start-Up Costs: $0.

Estimated Total Annual Cost to the Federal Government: $123,164.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security

[FR Doc. 2022-25900 Filed 11-25-22; 8:45 am]

BILLING CODE 9111-AB-P